DEPARTMENT OF COMMERCE

National Oceanic and Atmospheric Administration

RIN 0648-XL14

Endangered and Threatened Species; Take of Anadromous Fish

AGENCY: National Marine Fisheries Service (NMFS), National Oceanic and Atmospheric Administration, Commerce.

ACTION: Notice of decision and availability for permit 13537.

SUMMARY: This notice advises the public that a scientific research permit has been issued to the Washington Department of Fish and Wildlife, pursuant of the Endangered Species Act of 1973 (ESA), and that the decision documents are available upon request.

DATES: Permit 13537 was issued on September 23, 2008, subject to certain conditions set forth therein. The permit expires on December 31, 2017.

ADDRESSES: Requests for copies of the decision documents or any of the other associated documents should be directed to the Salmon Recovery Division, NOAA's National Marine Fisheries Service, 1201 N.E. Lloyd Blvd., Suite 1100, Portland, OR 97232. The documents are also available on the Internet at www.nwr.noaa.gov.

FOR FURTHER INFORMATION CONTACT: Rich Turner, Portland, OR, at phone number: (503) 736-4737, e-mail: rich.turner@noaa.gov

SUPPLEMENTARY INFORMATION: This notice is relevant to the following species and evolutionarily significant units (ESUs):

Chinook salmon (Oncorhynchus tshawytscha): threatened Lower Columbia River

Coho salmon (Oncorhynchus kisutch): threatened Lower Columbia River

Chum salmon (Oncorhynchus keta): threatened Columbia River.

Dated: October 14, 2008.
Angela Somma,
Chief, Endangered Species Division, Office of Protected Resources, National Marine Fisheries Service.

[FR Doc. E8-24799 Filed 10-16-08; 8:45 am]

BILLING CODE 3510-22-S